DEPARTMENT OF THE INTERIOR

National Park Service

Extension for Expiring Concession Contracts

AGENCY: National Park Service, Interior.

ACTION: Public notice.

SUMMARY: Pursuant to the terms of existing concession permits, with the exception of construction on National Park Service lands, public notice is hereby given that the National Park Service intends to provide visitor services under the authority of a temporary concession contract with a term of up to two years from the date of permit expirations.

SUPPLEMENTARY INFORMATION: The permits listed below, for charter and tour vessels at Glacier Bay National Park and Preserve, expired on December 31, 2003 and have been extended to the maximum allowable under 36 CFR 51.23. Under the provisions of current concessions permits, with one exception, and pending the development and public solicitation of a prospectus for a new concession contract, the National Park Service authorizes continuation of visitor services under a temporary concession contract for a period of up to two years from the expiration of the current concession permit. The exception precludes construction on National Park Service lands, regardless of whether the current permit authorizes such activity. The temporary contract does not affect my rights with respect to selection for award of a new concession contract. These temporary contracts will allow the National Park Service to complete a Congressionally mandated Environmental Impact Statement related to vessel management at Glacier Bay National Park and Preserve, followed by issuing prospectuses leading to the competitive selection of concessioners for new long-term concession contracts covering these operations. The EIS is scheduled for completion in December 2003. Prospectuses for charter and tour vessel operators are scheduled to be released in the Spring of 2004, authorizing charter vessel operations in 2005 and tour vessel operations in 2006.

Con ID No. | Concessioner name
Charter Vessels
CP-GLBA015-98 | Chicago of Charters.
CP-GLBA016-98 | Grand Pacific Charters.
CP-GLBA018-98 | Glacier Guides, Inc.
CP-GLBA019-98 | Marine Adventure Sailing Tours.
CP-GLBA025-98 | Princeton Hall, Ltd.
CP-GLBA026-98 | Lisianski Charters.
CP-GLBA027-98 | Gustavus Marine Charters, Inc.
CP-GLBA028-98 | Elfin Cove Sportfishing Lodge.
CP-GLBA030-98 | Dolphin Charters.
CP-GLBA031-98 | Glacier Bay Country Inn.
CP-GLBA032-98 | Sea Wolf Adventures.
Tour Vessels
CP-GLBA037-98 | New World Ship Management Co.
CP-GLBA038-98 | Lindbald Expeditions, Inc.
CP-GLBA039-98 | Cruise West.
CP-GLBA041-98 | Glacier Bay Park Concessions, Inc.
CP-GLBA044-98 | Glacier Bay Adventures.

EFFECTIVE DATE: June 30, 2003.

FOR FURTHER INFORMATION CONTACT: Cynthia Orlando, Concession Program Manager, National Park Service, Washington, DC, 20240, Telephone 202/513-7156.

Dated: May 6, 2003.
Richard G. Ring,
Associate Director, Administration, Business Practices and Workforce Development.

[FR Doc. 03-13332 Filed 5-28-03; 8:45 am]

BILLING CODE 4312-HX-M